NATIONAL SCIENCE FOUNDATION

Notice of Permit Applications Received Under the Antarctic Conservation Act of 1978

AGENCY: National Science Foundation.

ACTION: Notice of Permit Applications Received Under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by July 25, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant—Permit Application: 2017-003

Robert Ferl, University of Florida, Gainesville, FL

Activity for Which Permit Is Requested

Introduce non-indigenous species into Antarctica. The applicant plans to bring plant seeds from the species Arabidopsis thaliana to Antarctica in a sealed container that will be launched as part of a Long Duration Balloon (LDB) payload in order to expose the seeds to radiation available at high altitude and high latitudes. The acrylic/resin seed containment vessel will be sealed before leaving the USA and will not be reopened until it is returned. The containment vessel has been tested to −80 °C for structural and seal stability and drop tested to >15 g. The containment vessel will be secured within a 10 cm cubesat and then bolted to the balloon gondola prior to launch of the balloon. The seed containment vessel will be recovered along with the balloon payload and returned to the USA and the home institution.

Location

Ross Ice Shelf, Long Duration Balloon program launch and recovery sites, Antarctica.

Dates

October 15, 2016-March 15, 2019.

2. Applicant—Permit Application: 2017-005

David Ainley, H.T. Harvey & Associates, 983 University Avenue, Bldg D, Los Gatos, CA 95032.

Activity for Which Permit Is Requested

Take, Enter Antarctic Specially Protected Areas (ASPA), Import into USA. The applicant plans to enter ASPAs 121 (Cape Royds), 124 (Cape Crozier), and 105 (Beaufort Island) to study how Adelie penguins adapt to, or cope with, environmental change. The annual research activities include: Observing penguins; marking (n = 1200) and measuring (n = 200) nests; marking penguins with RFID tags (n = 30 adults & 60 chicks) and flipper bands (n = 700 chicks); applying (and removing) special instruments (TDRs [n = 90 adults], SPOT satellite tags, GLS tags [n = 200] adults); and taking small feather samples for DNA-based sex determination (n = 300 adults & 700 chicks). The applicant would also weigh and measure adults (n = 200) and chicks (n = 1000). Access to the ASPAs would be by foot once in the proximity (by way of helicopter or boats). Camping will be at established sites, except for Beaufort Island which will only be a few day-visits each year. The applicant will also be working at Cape Bird, but will be outside the boundary of the ASPA there. The applicant will maintain a webcam (PenguinCam) positioned slightly inside the Cape Royds ASPA boundary.

Location

ASPA 121, Cape Royds; ASPA 124, Cape Crozier; ASPA 105, Beaufort Island; Cape Bird (outside ASPA boundary).

Dates

October 15, 2016-February 5, 2020.

Nadene G. Kennedy,
Polar Coordination Specialist, Division of Polar Programs.

[FR Doc. 2016-14961 Filed 6-23-16; 8:45 am]

BILLING CODE 7555-01-P